DEPARTMENT OF HEALTH AND HUMAN SERVICES

National Institutes of Health

National Institute On Alcohol Abuse and Alcoholism; National Institute On Drug Abuse; and National Cancer Institute; Notice of Meeting

Pursuant to section 10(a) of the Federal Advisory Committee Act, as amended (5 U.S.C. App.), notice is hereby given of a meeting of the National Advisory Council on Alcohol Abuse and Alcoholism, National Advisory Council on Drug Abuse, and the National Cancer Advisory Board.

The meeting will be open to the public, with attendance limited to space available. Individuals who plan to attend and need special assistance, such as sign language interpretation or other reasonable accommodations, should notify the Contact Persons listed below in advance of the meeting. The meeting will also be available via webcast at http://videocast.nih.gov/summary.asp?live=13398.

Any interested person may file written comments with the committees by forwarding the statement to one of the Contact Persons listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Name of Committees: National Advisory Council on Alcohol Abuse and Alcoholism; National Advisory Council on Drug Abuse; National Cancer Advisory Board.

Date: February 5, 2014.

Time Closed: February 5, 2014, 8:30 a.m. to 9:00 a.m.

Agenda: Review and evaluation of CRAN-related grant applications.

Time Open: February 5, 2014, 9:15 a.m. to 12:30 p.m.

Agenda: Director's report on CRAN activities, presentations and discussion with the Council members of NIAAA, NIDA, and NCI.

Place: National Institutes of Health, 9000 Rockville Pike, Building 1, Wilson Hall, Bethesda, MD 20892.

Contact Person: Abraham P. Bautista, Ph.D., Director, Office of Extramural Activities, National Institute On Alcohol Abuse & Alcoholism, National Institutes of Health, 5635 Fishers Lane, RM 2085, Rockville, MD 20892, 301-443-9737, bautista@mail.nih.gov.

Contact Person: Mark Swieter, Ph.D., Acting Director, Office of Extramural Activities, National Institute On Drug Abuse, National Institutes of Health, 6001 Executive Boulevard, Rm 4243, Rockville, MD 20892, 301-435-1389, mswieter@nida.nih.gov.

Contact Person: Paulette S. Gray, Ph.D., Director, Division of Extramural Activities, National Cancer Institute, National Institutes of Health, Shady Grove West, 9609 Medical Center Drive, Rockville, MD 20892, 240-276-6340, grayp@dea.nci.nih.gov.

Information is also available on the Institute's/Center's home page: http://www.niaaa.nih.gov/AboutNIAAA/AdvisoryCouncil/Pages/default.aspx, http://www.drugabuse.gov/about-nida/advisory-boards-groups/national-advisory-council-drug-abuse-nacda/council-roster, and http://deainfo.nci.nih.gov/advisory/ncab/ncabpublicroster.pdf, where an agenda and any additional information for the meeting will be posted when available.

http://videocast.nih.gov/summary.asp?live=13398

(Catalogue of Federal Domestic Assistance Program Nos. 93.273, Alcohol Research Programs, National Institutes of Health, HHS).

(Catalogue of Federal Domestic Assistance Program Nos. 93.279, Drug Abuse and Addiction Research Programs, National Institutes of Health, HHS)

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: December 2, 2013.
Melanie J. Gray,
Program Analyst, Office of Federal Advisory Committee Policy.

[FR Doc. 2013-29097 Filed 12-5-13; 8:45 am]

BILLING CODE 4140-01-P